DEPARTMENT OF DEFENSE

Department of the Army

Notice of Availability of a Novel Dendrimer Based Detection Technology for Exclusive, Partially Exclusive or Non-exclusive Licenses

AGENCY: Department of the Army, DOD.

ACTION: Notice of availability.

SUMMARY: The Department of the Army announces the general availability of exclusive, partially exclusive or non-exclusive licenses relative to a novel dendrimer technology as described in United States Patent #6,716,450 entitled “Enhancing Protein Activity Through Nanoencapsulation”, Yin, et al., issued April 6, 2004. Licenses shall comply with 35 U.S.C. 209 and 37 CFR 404.

FOR FURTHER INFORMATION CONTACT: Michael D. Rausa, U.S. Army Research Laboratory, Office of Research and Technology Applications, ATTN: AMSRD-ARL-DP-P/Bldg. 434, Aberdeen Proving Ground, MD 21005-5425, Telephone: (410) 278-5028.

SUPPLEMENTARY INFORMATION: None.

Brenda S. Bowen,
Army Federal Register Liaison Officer.

[FR Doc. E8-24512 Filed 10-14-08; 8:45 am]

BILLING CODE 3710-08-P